SECURITIES AND EXCHANGE COMMISSION

[Release No. IC-24552]

Notice of Application for Deregistration Under Section 8(f) of the Investment Company Act of 1940

June 30, 2000.

The following is a notice of applications for deregistration under section 8(f) of the Investment Company Act of 1940 for the month of June, 2000. A copy of each application may be obtained for a fee at the SEC's Public Reference Branch, 450 Fifth St., NW, Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on July 25, 2000, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW, Washington, DC 20549-0609. For Further Information Contact: Diane L. Titus, at (202) 942-0564, SEC, Division of Investment Management, Office of Investment Company Regulation, 450 Fifth Street, NW, Washington, DC 20549-0506.

Oppenheimer Core Equity Fund [File No. 811-8807]; Oppenheimer Large Cap Value Fund [File No. 811-8810]

Summary: Each applicant seeks an order declaring that it has ceased to be an investment company. Applicants have never made a public offering of their securities and do not propose to make any public offering or engage in business of any kind.

Filing Dates: Each application was filed on June 12, 2000.

Applicants' Address: Two World Trade Center, New York, New York 10048-0203.

Corefunds, Inc. [File No. 811-4107]

Summary: Applicant seeks an order declaring that it has ceased to be an investment company. On July 24, 1998, applicant transferred its assets to Evergreen Equity Trust, Evergreen Select Equity Trust, Evergreen International Trust, Evergreen Fixed Income Trust, Evergreen Select Fixed Income Trust, Evergreen Municipal Trust, Evergreen Money Market Trust and Evergreen Select Money Market Trust (the “Acquiring Funds”) based on net asset value. Expenses of $1,040,489 incurred in connection with the reorganization were paid by First Union National Bank.

Filing Date: The application was filed on May 20, 2000.

Applicant's Address: 530 East Swedesford Road, Wayne, Pennsylvania 19087.

Shepmyers Investment Company [File No. 811-2798]

Summary: Applicant seeks an order declaring that it has ceased to be an investment company. On April 20, 2000, applicant transferred its assets to The National Portfolio of Smith Barney Muni Funds, based on net asset value. Expenses of $123,580 incurred in connection with the reorganization were paid by applicant.

Filing Date: The application was filed on May 26, 2000.

Applicant's Address: P.O. Box 339, Route 194 South, Hanover, Pennsylvania 17331.

Congress Street Associates, L.P. [File No. 811-8801]

Summary: Applicant, a registered closed-end management investment company, seeks an order declaring that it has ceased to be an investment company. By March 21, 2000, applicant had distributed all of its assets to its shareholders based on net asset value. Expenses of $4,722 incurred in connection with the liquidation were paid by applicant's general partner and investment adviser, Congress Street Management, L.L.C.

Filing Date: The application was filed on May 17, 2000.

Applicant's Address: c/o PaineWebber Incorporated, 1285 Avenue of the Americas, New York, New York 10019.

Merrill Lynch Fund for Tomorrow, Inc. [File No. 811-3871]

Summary: Applicant seeks an order declaring that it has ceased to be an investment company. On November 23, 1998, applicant transferred its assets to Merrill Lynch Fundamental Growth Fund, Inc. based on net asset value. Expenses of approximately $319,620 incurred in connection with the reorganization were paid by the acquiring fund.

Filing Date: The application was filed on May 15, 2000.

Applicant's Address: 800 Scudders Mill Road, Plainsboro, New Jersey 08536-9011.

Templeton Global Real Estate Fund [File No. 811-5844]

Summary: Applicant seeks an order declaring that it has ceased to be an investment company. On September 23, 1999, applicant transferred its assets to Franklin Real Estate Securities Fund, a series of Franklin Real Estate Securities Trust, based on net asset value. Expenses of $61,021 incurred in connection with the reorganization were paid equally by applicant, the acquiring fund, and their respective investment advisers.

Filing Date: The application was filed on June 2, 2000.

Applicant's Address: 500 East Broward Boulevard, Fort Lauderdale, Florida 33394-3091.

Investment Services for Education Associations Trust [File No. 811-7967]

Summary: Applicant seeks an order declaring that it has ceased to be an investment company. On May 31, 1999, applicant made a liquidating distribution to its shareholders based on net asset value. No expenses were incurred in connection with the liquidation.

Filing Dates: The application was filed on March 10, 2000, and amended on April 25, 2000, and June 9, 2000.

Applicant's Address: 1201 North Market Street, P.O. Box 1347, Wilmington, Delaware 19899-1347.

INVESCO Industrial Income Fund, Inc. [File No. 811-893]

Summary: Applicant seeks an order declaring that it has ceased to be an investment company. On May 28, 1999, applicant transferred its assets to INVESCO Equity Fund, formerly named INVESCO Industrial Income Fund, a series of INVESCO Combination Stock & Bond Funds, Inc., based on net asset value. Expenses of $968,388 incurred in connection with the reorganization were paid equally by Invesco Funds Group, Inc., applicant's investment adviser, and applicant.

Filing Date: The application was filed on May 23, 2000.

Applicant's Address: 7800 E. Union Avenue, Denver, Colorado 80237.

INVESCO Emerging Opportunity Funds, Inc. [File No. 811-6234]; INVESCO Growth Funds, Inc. [File No. 811-352]

Summary: Each applicant seeks an order declaring that it has ceased to be an investment company. On July 15, 1999, applicants transferred their assets to INVESCO Small Company Growth Fund and INVESCO Blue Chip Growth Fund, respectively, each a series of INVESCO Stock Funds, Inc., based on net asset value. Expenses of $81,674, and $234,237, respectively, incurred in connection with the reorganizations were paid equally by applicants' investment adviser and the acquiring fund.

Filing Date: The applications were filed on May 23, 2000.

Applicants' Address: 7800 E. Union Avenue, Denver, Colorado 80237.

INVESCO Tax-Free Income Funds, Inc. [File No. 811-3177]

Summary: Applicant seeks an order declaring that it has ceased to be an investment company. On August 16, 1999, INVESCO Tax-Free Bond Fund (formerly named INVESCO Tax-Free Long-Term Bond Fund), a series of applicant, transferred its assets to INVESCO Tax-Free Bond Fund, a new series of INVESCO Bond Funds, Inc., based on net asset value. Expenses of $31,084 incurred in connection with the reorganization were divided equally between INVESCO Funds Group, Inc., applicant's investment adviser, and INVESCO Tax-Free Bond Fund.

Filing Date: The application was filed on May 23, 2000.

Applicant's Address: 7800 E. Union Avenue, Denver, Colorado 80237.

INVESCO Value Trust [File No. 811-4595]

Summary: Applicant seeks an order declaring that it has ceased to be an investment company. On May 28, 1999, INVESCO Total Return Fund, a series of applicant, transferred its assets to INVESCO Total Return Fund, a series of INVESCO Combination Stock & Bond Funds, Inc. On June 4, 1999, INVESCO Intermediate Government Bond Fund, a series of applicant, transferred its assets to INVESCO U.S. Government Securities Fund, a series of INVESCO Bond Funds, Inc. On July 15, 1999, INVESCO Value Equity Fund, a series of applicant, transferred its assets to INVESCO Value Equity Fund, a series of INVESCO Stock Funds, Inc. Expenses of $137,084 incurred in connection with the reorganization of applicant's INVESCO Total Return Fund series were paid equally by applicant's investment adviser and INVESCO Total Return Fund. Expenses of $87,458 were incurred in connection with the reorganization of applicant's INVESCO Intermediate Government Bond Fund series, with applicant's investment adviser paying $43,729, INVESCO Intermediate Government Bond Fund paying $13,524, and INVESCO U.S. Government Securities Fund paying $30,204. Expenses of $69,319 incurred in connection with the reorganization of applicant's INVESCO Value Equity Fund series were paid equally by applicant's investment adviser and INVESCO Value Equity Fund.

Filing Date: The application was filed on May 23, 2000.

Applicant's Address: 7800 E. Union Avenue, Denver Colorado 80237.

INVESCO Diversified Funds, Inc. [File No. 811-7984]

Summary: Applicant seeks an order declaring that it has ceased to be an investment company. On June 4, 1999, applicant transferred its assets to INVESCO Small Company Growth Fund, a series of INVESCO Emerging Opportunity Funds, Inc., based on net asset value. Expenses of $86,881 were incurred in connection with the reorganization, of which applicant's investment adviser paid $43,440, applicant paid $11,596, and the acquiring fund paid $31,844.

Filing Date: The application was filed on May 23, 2000.

Applicant's Address: 7800 E. Union Avenue, Denver, Colorado 80237.

Farm Bureau Life Variable Account II [File No. 811-8639]

Summary: Applicant seeks an order declaring that it has ceased to be an investment company. Applicant has not made any public offering of its securities, is not now engaged, or intending to engage, in any business activities other than those necessary for winding up its affairs.

Filing Date: The application was filed on May 23, 2000.

Applicant's Address: 5400 University Avenue, West Des Moines, Iowa 50266.

Farm Bureau Life Annuity Account II [File No. 811-8667]

Summary: Applicant seeks an order declaring that it has ceased to be an investment company. Applicant has not made any public offering of its securities, is not now engaged, or intending to engage, in any business activities other than those necessary for winding up its affairs.

Filing Date: The application was filed on May 23, 2000.

Applicant's Address: 5400 University Avenue, West Des Moines, Iowa 50266.

Pegasus Variable Funds [File No. 811-8854]

Summary: Applicant seeks an order declaring that it has ceased to be an investment company. On March 31, 1999, Applicant distributed all of its shares at net asset value to its shareholders in connection with Applicant's liquidation. Applicant's liquidation was completed pursuant to an in-kind substitution of securities permitted under Section 17(a) and 26(b) of the Investment Company Act of 1940 by a March 17, 1999 SEC exemptive order. Legal expenses of $33,689.37 incurred in connection with the liquidation were paid by Pegasus Variable Funds ($4,361.87) and One Group Investment Trust, the substituted Fund ($29,327.50). No other expenses were incurred in connection with the liquidation.

Filing Date: The application was filed on June 12, 2000.

Applicant's Address: 1111 Polaris Parkway, P.O. Box 710211, Columbus, OH 43271-0211.

Select Advisors Portfolios [File No. 811-8778]

Summary: Applicant seeks an order declaring that it has ceased to be an investment company. On December 31, 1998, applicant, the master fund in a master/feeder structure, made a liquidating distribution to its shareholders, based on net asset value. Expenses of $206,646 incurred in connection with the liquidation were paid by Touchstone Advisors, Inc., applicant's investment adviser.

Filing Dates: The application was filed on February 7, 2000, and amended on May 25, 2000, and June 27, 2000.

Applicant's Address: 311 Pike Street, Cincinnati, Ohio 45202.

For the Commission, by the Division of Investment Management, pursuant to delegated authority.
Jonathan G. Katz,
Secretary.

[FR Doc. 00-17282 Filed 7-7-00; 8:45 am]

BILLING CODE 8010-01-M